PEACE CORPS

Information Collection Requests Under OMB Review

AGENCY: Peace Corps.

ACTION: 60-Day notice and request for comments.

SUMMARY: The Peace Corps will submit the following information collection request to the Office of Management and Budget (OMB) for approval. In compliance with the Paperwork Reduction Act of 1995 (44 U.S.C. Chapter 35), the Peace Corps invites the general public to comment on this request for approval of a new proposed information collection, Peace Corps Response Application (OMB Control Number 0420—pending). This process is conducted in accordance with 5 CFR 1320.10.

DATES: Submit comments on or before July 15, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: This information collection will be used by Peace Corps Response staff to perform initial screening for potential candidates for specific Peace Corps Response assignments. The information collection requests basic information about an applicant's technical and language skills and availability for Peace Corps Response assignments. Peace Corps Response deploys volunteers throughout the world to work in short term assistance (6 months on average) projects.

Method: The Peace Corps Response application will be available on the Peace Corps Web site and will be submitted electronically to Peace Corps Response.

Title: Peace Corps Response Application Form.

OMB Control Number: 0420—pending.

Type of Review: New.

Affected Public: Returned Peace Corps Volunteer and general public.

Respondents' Obligation To Reply: Voluntary.

Burden to the Public:

(a) Estimated number of respondents: 2,500.

(b) Frequency of response: one time.

(c) Estimated average burden per response: 60 minutes.

(d) Estimated total reporting burden: 2,500 hours.

(e) Estimated annual cost to respondents: $0.00.

General Description of Collection: The Peace Corps Response Application is necessary to recruit qualified Volunteers to serve in the Peace Corps' Peace Corps Response program. This information collection will be used by Peace Corps Response staff to perform initial screening for potential candidates for specific Peace Corps Response assignments. Applicants are recruited from the Returned Peace Corps Volunteer community as well as from the general public.

Request for Comment: Peace Corps invites comments on whether the proposed collection of information is necessary for proper performance of the functions of the Peace Corps Response, including whether the information will have practical use; the accuracy of the agency's estimate of the burden of the proposed collection of information, including the validity of the information to be collected; and, ways to minimize the burden of the collection of information on those who are to respond, including through the use of automated collection techniques, when appropriate, and other forms of information technology.

This notice issued in Washington, DC, on May 10, 2011.
Earl W. Yates,
Associate Director, Management.

[FR Doc. 2011-11879 Filed 5-13-11; 8:45 am]

BILLING CODE 6051-01-P